DEPARTMENT OF HEALTH AND HUMAN SERVICES

Administration for Community Living

Final Priorities; National Institute on Disability, Independent Living, and Rehabilitation Research—Disability and Rehabilitation Research Projects Program

AGENCY: Administration for Community Living, Department of Health and Human Services.

ACTION: Final priority.

CFDA Numbers: 84.133A-5 and 84.133A-6.

SUMMARY: The Administrator of the Administration for Community Living announces priorities for the Disability and Rehabilitation Research Projects (DRRPS) Program administered by the National Institute on Disability, Independent Living, and Rehabilitation Research (NIDILRR). Specifically, we announce two priorities for DRRPs on (1) Center on Knowledge Translation for Employment Research (84.133A-5) and (2) Projects for Translating Disability and Rehabilitation Research into Practice (84.133A-6). The Administrator of the Administration for Community Living may use these priorities for competitions in fiscal year (FY) 2015 and later years. We take this action to focus research attention on an area of national need. We intend for these priorities to contribute to improved outcomes for people with disabilities through improved uptake of research-based knowledge.

DATES: Effective Date: These priorities are effective June 4, 2015.

FOR FURTHER INFORMATION CONTACT: Marlene Spencer, U.S. Department of Health and Human Services, 400 Maryland Avenue SW., Room 5133, Potomac Center Plaza (PCP), Washington, DC 20202-2700. Telephone: (202) 245-7532 or by email: marlene.spencer@acl.hhs.gov.

If you use a telecommunications device for the deaf (TDD) or a text telephone (TTY), call the Federal Relay Service (FRS), toll free, at 1-800-877-8339.

SUPPLEMENTARY INFORMATION:

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects

The purpose of NIDILRR's DRRPs, which are funded through the Disability and Rehabilitation Research Projects and Centers Program, is to improve the effectiveness of services authorized under the Rehabilitation Act by developing methods, procedures, and rehabilitation technologies that advance a wide range of independent living and employment outcomes for individuals with disabilities, especially individuals with the most significant disabilities. DRRPs carry out one or more of the following types of activities, as specified and defined in 34 CFR 350.13 through 350.19: Research, training, demonstration, development, utilization, dissemination, and technical assistance.

An applicant for assistance under this program must demonstrate in its application how it will address, in whole or in part, the needs of individuals with disabilities from minority backgrounds (34 CFR 350.40(a)). The approaches an applicant may take to meet this requirement are found in 34 CFR 350.40(b). Additional information on the DRRP program can be found at: www.ed.gov/rschstat/research/pubs/res-program.html#DRRP.

Program Authority: 29 U.S. C. 762(g) and 764(b)(2).

Applicable Program Regulations: 34 CFR part 350.

We published a notice of proposed priorities (NPP) for this program in the Federal Register on March 13, 2015 (80 FR 13378). That notice contained background information and our reasons for proposing the particular priorities.

There are no differences between the proposed priorities and these final priorities.

Public Comment: In response to our invitation in the notice of proposed priorities, one party submitted comments on the proposed priorities.

Generally, we do not address technical and other minor changes. In addition, we do not address general comments that raised concerns not directly related to the proposed priorities.

Analysis of Comments and Changes: An analysis of the comments and of any changes in the priorities since publication of the NPP follows.

Center on Knowledge Translation for Employment Research (Priority 1)

We received no comments on this priority.

Projects for Translating Disability and Rehabilitation Research Into Practice (Priority 2)

Comment: One commenter asked whether NIDILRR intends the grants to be made under this priority to support the translation and use of development-based outputs, as well as research-based knowledge and products. This commenter stated that if NIDILRR does intend to support the translation and use of development-based outputs, we should consistently include such language throughout the priority.

Discussion: We do not agree with the commenter that there is a solid and clear distinction between research-based and development-based outputs. NIDILRR program regulations define “development” in terms of its basis in research. CFR 350.16 defines development as the use of “knowledge and understanding gained from research to create materials, devices, systems, or methods beneficial to the target population, including design and development of prototypes and processes.” The purpose of this priority, as stated in the notice of proposed priority, is to support the translation of research-based findings or products of past or present NIDILRR-funded grants into use or adoption by their stakeholders. Applicants may propose to translate and promote the use of findings or products of any past or present NIDILRR grantee, including those engaged in research or development activities, as long as the products of those grants are based on research.

Changes: None.

Final Priorities

Priority 1—Center on Knowledge Translation for Employment Research

The Administrator of the Administration for Community Living proposes a priority for a Disability and Rehabilitation Research Project to serve as the Center on Knowledge Translation for Employment Research (Center). The purpose of the proposed Center on KT for Employment Research is to promote the use of employment research findings to improve practices and policies that support improved employment outcomes of individuals with disabilities. The center will achieve this purpose by (1) working with employment-focused NIDILRR grantees to identify research findings that can be used to improve employment outcomes for individuals with disabilities, (2) identifying areas in which stakeholders' needs for research-based knowledge are most pressing, and (3) investigating and promoting effective strategies to increase the appropriate use of the best available research-based knowledge in the field.

Under this priority, the Center must be designed to contribute to the following outcomes:

(a) Increased understanding of processes and practices that will lead to successful knowledge translation in the field of employment for individuals with disabilities;

(b) Increased adoption and use of relevant research findings funded by NIDILRR and other entities, to improve employment of individuals with disabilities; and

(c) Increased capacity of NIDILRR's employment-focused grantees to plan and engage in knowledge translation activities.

The Center must contribute to these outcomes by conducting rigorous research, development, technical assistance, dissemination, and utilization activities to increase successful knowledge translation of employment research to improve employment of individuals with disabilities. In planning and conducting all activities, the Center must partner with relevant stakeholders such as employment-focused researchers, individual with disabilities, consumer organizations, employers, State and Federal agencies, and others as appropriate.

Priority 2—Projects for Translating Disability and Rehabilitation Research Into Practice

The Administrator of the Administration for Community Living proposes a priority for Disability and Rehabilitation Research Projects (DRRP). These DRRP grants will serve as Projects for Translating Disability and Rehabilitation Research into Practice. The purpose of these projects is to support the translation of research findings or products of past or present NIDILRR-funded grants into use or adoption by their stakeholders. Under this priority, grantees must successfully move NIDILRR-sponsored research-based findings or products into actual use or adoption in real-life contexts. Grantees under this priority must also document and disseminate the knowledge translation methods that they used to facilitate the adoption or use of findings or products by stakeholders.

Each knowledge translation grant under this priority must be conducted in partnership with relevant stakeholders. These stakeholders must be actively engaged in the planning, implementation, and evaluation of all knowledge translation grant activities. Grantees under this priority must contribute to the following outcomes:

(1) Use or adoption of NIDILRR-sponsored findings or products by relevant stakeholders;

(2) Changes in policy, practice, or systems that are intended to improve the lives of individuals with disabilities as a result of the use or adoption of NIDILRR-sponsored findings or products; and

(3) Increased understanding of promising practices for knowledge translation in disability, independent living, and rehabilitation research.

Grantees under this priority must contribute to these outcomes by—

(a) Identifying research-based findings or products from a NIDILRR-funded grant or grants that are ready for use or adoption in real-world settings, as well as the context or setting in which they will be used or adopted;

(b) Identifying or developing, and then implementing a knowledge translation plan to facilitate the use or adoption of findings or products in (a) by key stakeholders; and

(c) Identifying measures to evaluate the success of the uses or adoptions achieved under (b).

Types of Priorities

When inviting applications for a competition using one or more priorities, we designate the type of each priority as absolute, competitive preference, or invitational through a notice in the Federal Register. The effect of each type of priority follows:

Absolute priority: Under an absolute priority, we consider only applications that meet the priority (45 CFR 75).

Competitive preference priority: Under a competitive preference priority, we give competitive preference to an application by (1) awarding additional points, depending on the extent to which the application meets the priority (45 CFR 75); or (2) selecting an application that meets the priority over an application of comparable merit that does not meet the priority (45 CFR 75).

Invitational priority: Under an invitational priority, we are particularly interested in applications that meet the priority. However, we do not give an application that meets the priority a preference over other applications (45 CFR 75).

This notice does not preclude us from proposing additional priorities, requirements, definitions, or selection criteria, subject to meeting applicable rulemaking requirements.

Note: This notice does not solicit applications. In any year in which we choose to use these priorities, we invite applications through a notice in the Federal Register.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 29, 2015.
John Tschida,
Director, National Institute on Disability, Independent Living, and Rehabilitation Research.

[FR Doc. 2015-10475 Filed 5-4-15; 8:45 am]

BILLING CODE 4154-01-P